DEPARTMENT OF HOMELAND SECURITY

Coast Guard

[USCG 2003-14779]

Collection of Information Under Review by Office of Management and Budget (OMB): OMB Control Numbers 1625-0070, 1625-0047, 1625-0077, and 1625-0084

AGENCY: Coast Guard, DHS.

ACTION: Request for comments.

SUMMARY: In compliance with the Paperwork Reduction Act of 1995, the Coast Guard intends to seek the approval of OMB for the renewal of four information Collection Requests (ICRs). The ICRs comprise (1) Vessel Identification System, (2) Vital System Automation, (3) Security of Passenger Vessels and Passenger Terminals, and (4) Audit Reports under the International Safety Management Code. Before submitting the ICRs to OMB, the Coast Guard is inviting comments on them as described below.

DATES: Comments must reach the Coast Guard on or before June 2, 2003.

ADDRESSES: To make sure that your comments and related material do not enter the docket [USCG 2003-14779] more than once, please submit them by only one of the following means:

(1) By mail to the Docket Management Facility, U.S. Department of Transportation (DOT), room PL-401, 400 Seventh Street SW., Washington, DC 20590-0001. Caution: Because of recent delays in the delivery of mail, your comments may reach the Facility more quickly if you choose one of the other means described below.

(2) By delivery to room PL-401 on the Plaza level of the Nassif Building, 400 Seventh Street SW., Washington, DC, between 9 a.m. and 5 p.m., Monday through Friday, except Federal holidays. The telephone number is 202-366-9329.

(3) By fax to the Facility at 202-493-2251.

(4) Electronically through the Web site for the Docket Management System at http://dms.dot.gov.

The Facility maintains the public docket for this notice. Comments and material received from the public, as well as documents mentioned in this notice as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

Copies of the complete ICRs are available through this docket on the Internet at http://dms.dot.gov, and also from Commandant (G-CIM-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; or Dorothy Beard, Chief, Documentary Services Division, U.S. Department of Transportation, 202-366-5149, for questions on the docket.

Request for Comments

The Coast Guard encourages interested persons to submit comments. Persons submitting comments should include their names and addresses, identify this document [USCG 2003-14779], and give the reasons for the comments. Please submit all comments and attachments in an unbound format no larger than 8½ by 11 inches, suitable for copying and electronic filing. Persons wanting acknowledgment of receipt of comments should enclose stamped self-addressed postcards or envelopes.

Information Collection Requests

1. Title: Vessel Identification System.

OMB Control Number: 1625-0070.

Summary: The Coast Guard must establish a nationwide vessel-identification system (VIS) and centralize certain vessel-documentation functions. VIS provides participating States and territories with access to data on vessels numbered by States and territories. Participation in it is voluntary.

Need: 46 U.S.C. 12501 mandates the establishment of a VIS. 33 CFR Part 187 prescribes the requirements of VIS.

Respondents: Governments of States and territories.

Frequency: Daily.

Burden: The estimated burden is 6,045 hours a year.

2. Title: Vital System Automation.

OMB Control Number: 1625-0047.

Summary: This collection pertains to the vital-system automation on commercial vessels that is necessary to protect personnel and property on board U.S.-flag vessels.

Need: 46 U.S.C. 3306 authorizes the Coast Guard to promulgate rules for the safety of personnel and property on board vessels. Various sections within parts 52, 56, 58, 62, 110, 111, and 113 of Title 46 of the Code of Federal Regulations contain these rules.

Respondents: Designers, manufacturers, and owners of vessels and shipyards.

Frequency: On occasion.

Burden: The estimated burden is 57,375 hours a year.

3. Title: Security of Passenger Vessels and Passenger Terminals.

OMB Control Number: 1625-0077.

Summary: The purpose of rules on the security of passenger vessels and passenger terminals is to deter or mitigate the results of terrorism and other unlawful acts against these vessels and terminals. The rules should reduce the likelihood of such acts and should reduce the damage to property and injury to persons, if such acts occur.

Need: 33 U.S.C. 1231 authorizes the Coast Guard to issue rules for the safety of ports and waterways. 33 CFR Parts 120 and 128 contain these rules.

Respondents: Owners, operators, and charterers of passenger vessels and passenger terminals.

Frequency: On occasion.

Burden: The estimated burden is 3,549 hours a year.

4. Title: Audit Reports under the International Safety Management Code.

OMB Control Number: 1625-0084.

Summary: This information helps to determine whether U.S. vessels, subject to SOLAS 74, engaged in international trade, are in compliance with that treaty. Organizations recognized by the Coast Guard conduct ongoing audits of vessels' and companies' safety-management-systems.

Need: 46 U.S.C. 3203 authorizes the Coast Guard to prescribe rules regarding safety-management systems. 33 CFR part 96 contains the rules for those systems and hence the safe operation of vessels.

Respondents: Owners and operators of vessels, and organizations authorized to issue certificates of compliance with the ISM Code for the United States.

Frequency: On occasion.

Burden: The estimated burden is 8,440 hours a year.

Dated: March 25, 2003.
Clifford I. Pearson,
Director of Information and Technology.

[FR Doc. 03-7995 Filed 4-1-03; 8:45 am]

BILLING CODE 4910-15-P